DEPARTMENT OF COMMERCE

National Oceanic and Atmospheric Administration

[RTID 0648-XC352]

International Whaling Commission; 68th Meeting; Announcement of Public Meeting

AGENCY: National Marine Fisheries Service (NMFS), National Oceanic and Atmospheric Administration (NOAA), Commerce.

ACTION: Notice of public meeting.

SUMMARY: This notice announces the date, time, and location of the public meeting being held, in a hybrid format, prior to the 68th meeting of the International Whaling Commission (IWC). The meeting is open to U.S. citizens only.

DATES: The public meeting will be held September 27, 2022 at 1 p.m. EDT.

ADDRESSES: The meeting will be held in a hybrid format. In-person attendees will join the meeting at the Silver Spring Civic Center, 1 Veterans Pl, Silver Spring, MD 20910. Virtual attendees can register to attend the public meeting by registering at the following link: https://noaanmfs-meets.webex.com/noaanmfs-meets/j.php?RGID=r45c98c107d00773a8d62670ff3f302f7.

FOR FURTHER INFORMATION CONTACT: Madison Harris, Madison.Harris@noaa.gov or 202-480-4592.

SUPPLEMENTARY INFORMATION: The Secretary of Commerce is responsible for implementing the domestic obligations of the United States under the International Convention for the Regulation of Whaling, 1946. The U.S. IWC Commissioner has responsibility for the preparation and negotiation of U.S. positions on international issues concerning whaling and for all matters involving the IWC. The U.S. IWC Commissioner is staffed by the Department of Commerce and assisted by the Department of State, the Marine Mammal Commission, and other U.S. Government agencies.

Additional information about the IWC meeting, including a draft agenda for the meeting, is posted on the IWC Secretariat's website at https://iwc.int/events-and-workshops/iwc68.

NOAA will hold a public meeting to discuss the tentative U.S. positions for the October 2022 IWC meeting in Portorož, Slovenia. Any U.S. citizen with an identifiable interest in U.S. whale conservation and management policy may participate, but NOAA reserves the authority to inquire about the interests of any person who appears at the meeting and to determine the appropriateness of that person's participation. In particular, persons who represent foreign interests may not attend. Persons deemed by NOAA to be ineligible to attend will be asked to leave the meeting. These measures are necessary to limit statements to those conveying U.S. interests.

The September 27, 2022, meeting will be held at 1 p.m. EDT in a hybrid format. In-person attendees can join the meeting in the Fenton Room of the Silver Spring Civic Center, 1 Veterans Pl, Silver Spring, MD 20910. Persons may also attend virtually. Meeting access and conferencing platform information will be sent to those who register. To participate virtually, interested persons must register in advance via the following link: https://noaanmfs-meets.webex.com/noaanmfs-meets/j.php?RGID=r45c98c107d00773a8d62670ff3f302f7.

Special Accommodations

The meeting is physically accessible to people with disabilities. Requests for sign language interpretation or other auxiliary aids should be directed to Madison Harris, Madison.Harris@noaa.gov or 202-480-4592, by September 21, 2022.

Dated: September 14, 2022.
Alexa Cole,
Director, Office of International Affairs, Trade, and Commerce, National Marine Fisheries Service.

[FR Doc. 2022-20203 Filed 9-16-22; 8:45 am]

BILLING CODE 3510-22-P